DEPARTMENT OF AGRICULTURE

Forest Service

Arapaho and Roosevelt National Forests and Pawnee National Grassland; Boulder and Gilpin County, CO; Eldora Mountain Resort Ski Area Projects; Correction

AGENCY: Forest Service, USDA.

ACTION: Notice of intent to prepare an environmental impact statement; correction.

SUMMARY: The Forest Service published a document in the Federal Register of July 6, 2012, concerning the notice of intent to prepare an environmental impact statement. The document contained incorrect information pertaining to a component of the proposed action.

FOR FURTHER INFORMATION CONTACT: Eldora EIS NEPA Contractor, Travis Beck, (970) 668-3398 ext. 103.

Correction

In the Federal Register of July 6, 2012, in FR Doc. 2012-16300, on page 39987, in the second column, correct the DATES caption to read:

“Comments concerning the scope of the analysis must be received by August 31, 2012. The draft environmental impact statement is expected to be available for public review in June 2013 and the final environmental impact statement is expected in April 2014.”

In the Federal Register of July 6, 2012, in FR Doc. 2012-16300, on page 39987, in the third column, correct the first paragraph under the Proposed Action Heading to read:

The project area includes 615 acres of National Forest System (NFS) lands and 435 acres of private lands. The Forest Service only maintains jurisdiction over NFS lands; however, to fulfill its obligations under the National Environmental Policy Act (NEPA) the Forest Service will analyze the entire project area for direct, indirect and cumulative effects. The proposed projects would add approximately 70 acres of traditional terrain and include approximately 70 acres of gladed terrain projects. Much of the traditional terrain construction will require tree removal for the area of the trails, approximating 70 acres of removal, although a more accurate quantity of tree removal will be disclosed in the EIS as all proposed trails may not necessitate complete tree removal. Each project component is discussed below and shown on the enclosed Eldora Mountain Resort Ski Area Projects map. Additional detail can be viewed at www.EldoraEIS.com.

In the Federal Register of July 6, 2012, in FR Doc. 2012-16300, on page 39988, in the first column, correct numbers 4 through 6 under the Proposed Action Heading to read:

4. Jolly Jug Lift and Trails—Install a new four or six-person chairlift and construct four new Intermediate trails (approximately 20 acres of terrain) and approximately 10 acres of Intermediate ability level glades. A Forest Plan amendment would be required to adjust the SUP boundary to include approximately 16 acres of the southern portion of the Jolly Jug Pod.

5. Snowmaking—Expand snowmaking coverage to include all new traditional trails (not in any of the gladed areas) totaling approximately 70 acres.

6. Roads and Utilities—Build new road spurs and install utilities to construct and maintain the following proposed lifts and facilities: Placer Express Lift, Jolly Jug Lift, Challenge Lift, The Lookout Facility, and Challenge Mountain Facility. Proposed Mountain Access Roads are depicted by black dashed lines on the attached Eldora Mountain Resort Ski Area Projects map. The existing snowmaking infrastructure would deliver drinking water to The Lookout and Challenge Mountain facilities, as is the current method for The Lookout Facility. On-site septic systems would accommodate sewage deposal for the proposed Lookout Facility and Challenge Mountain Facility.

Dated: July 12, 2012.
Sylvia Clark,
District Ranger, Arapaho and Roosevelt National Forests and Pawnee National Grassland, Boulder.

[FR Doc. 2012-17452 Filed 7-19-12; 8:45 am]

BILLING CODE 3410-11-P